OFFICE OF MANAGEMENT AND BUDGET

Amendments to Accounting for Property, Plant, and Equipment

AGENCY: Office of Management and Budget.

ACTION: Notice of document availability.

SUMMARY: This Notice indicates the availability of the sixteenth Statement of Federal Financial Accounting Standards (SFFAS), “Amendments to Accounting for Property, Plant, and Equipment.” The statement was recommended by the Federal Accounting Standards Advisory Board (FASAB), approved by the Director of the Office of Management and Budget (OMB), the Comptroller General, and the Secretary of the Treasury, and adopted in its entirety by OMB on September 8, 1999. As required by the Chief Financial Officers Act of 1990, SFFAS No. 16 was reported to the Congress and a period of 45 days of continuous session of the Congress has expired.

ADDRESSES: Copies of SFFAS No. 16, “Amendments to Accounting for Property, Plant, and Equipment,” may be obtained for $4.25 each from the Superintendent of Documents, Government Printing Office, Washington, DC 20402-9325 (telephone 202-512-1800), Stock No. 041-001-00548-0.

FOR FURTHER INFORMATION CONTACT: Kim Geier (telephone: 202-395-6905), Office of Federal Financial Management, Office of Management and Budget, 725 17th Street, N.W., Room 6025, Washington, DC 20503.

SUPPLEMENTARY INFORMATION: Under a Memorandum of Understanding between the General Accounting Office, the Department of the Treasury, and OMB on Federal Government Accounting Standards, the Comptroller General, the Secretary of the Treasury, and the Director of OMB decide upon principles and standards after considering the recommendations of FASAB. After agreement to specific principles and standards, they are published in the Federal Register and distributed throughout the Federal Government.

This Notice is available on the OMB home page on the Internet which is currently located at http://www.whitehouse.gov/OMB/, under the caption “Federal Register.”

Joshua Gotbaum,
Controller.

[FR Doc. 00-19206 Filed 7-28-00; 8:45 am]

BILLING CODE 3110-01-P